DEPARTMENT OF ENERGY

Federal Energy Regulatory Commission

[Project No. 11810-004]

City of Augusta, Georgia; Notice of Meeting To Discuss Augusta Canal Biological Opinion

On April 25, 2023, the National Marine Fisheries Service (NMFS) filed its draft Biological Opinion (BO) with the Commission on the licensing of the Augusta Canal Project No. 11810, which included NMFS's reasonable and prudent measures for the protection of the endangered shortnose sturgeon and the South Atlantic Distinct Population Segment of Atlantic sturgeon. On June 16, 2023, the City of Augusta, Georgia filed comments on the draft BO.

On September 29, 2023, Commission staff will hold a technical conference to discuss with NMFS the biological rationale for Reasonable and Prudent Measure No. 1, which would require flow into Augusta Canal be capped at 3,500 cubic feet per second. Staff also intends to discuss additional information needs with the City of Augusta for the proposed Augusta Canal Project No. 11810. The specific items to be discussed during the technical conference are included in Attachment A. The conference will be held via teleconference from 9:30 a.m. to 12:30 p.m. Eastern Daylight Time.

All local, State, and Federal agencies, Native American Tribes, and other interested parties are invited to attend; however participation during the meeting will be limited to Commission staff, NMFS personnel, and the City of Augusta representatives. Discussion at the meeting will be limited to those items listed in Attachment A. There will be no transcript of the conference, but a summary of the meeting will be prepared for the project record. If you are interested in attending and/or participating in the conference, you must contact David Gandy at (202) 502-8560, or david.gandy@ferc.gov by September 26, 2023 to receive specific instructions on how to attend. Questions concerning the meeting, the FERC process, or the consultation process should be directed to Allan Creamer at (202) 502-8365, or allan.creamer@ferc.gov.

Dated: August 31, 2023.
Kimberly D. Bose,
Secretary.

Attachment A

Additional Information To Be Discussed During the Technical Conference

1. What is the design capacity of the Augusta Canal and its normal operating capacity?

2. Since issuance of the final environmental assessment on September 22, 2006, what, if any, work that has been undertaken to increase the capacity of the Augusta Canal?

3. What is the amount of water currently withdrawn from the Augusta Canal for hydroelectric generation, public water supply (consumptive use), recreation, and any other use, as well as the manner of each withdrawal?

4. How much of the water that is drawn into the Augusta Canal is returned to the Savannah River and Augusta Shoals, and what is the point of reentry (for each non-consumptive use)?

5. Please provide a specific, quantitative description of what effects implementing RPM (Reasonable and Prudent Measure) No. 1 and RPM No. 3 would have on the City of Augusta's ability to provide the flows needed to meet the existing and projected water needs from the Augusta Canal.

[FR Doc. 2023-19291 Filed 9-6-23; 8:45 am]

BILLING CODE 6717-01-P